DEPARTMENT OF ENERGY

Federal Energy Regulataory Commission

[Docket No. EG01-104-000, et al.]

FPLE Rhode Island State Energy, L.P., et al.; Electric Rate and Corporate Regulation Filings

January 25, 2001.

Take notice that the following filings have been made with the Commission:

1. FPLE Rhode Island State Energy, L.P.

[Docket No. EG01-104-000]

Take notice that on January 18, 2001, FPLE Rhode Island State Energy, L.P. (FPLE RISE), with its principal office at 700 Universe Boulevard, Juno Beach, Florida, 33408, filed with the Commission an application for determination of exempt wholesale generator status pursuant to Part 365 of the Commission's regulations.

FPLE RISE states that it is a Delaware limited partnership engaged directly and exclusively in the business of leasing, developing, and operating an approximately 535 MW megawatt facility located in Johnston, Rhode Island. Electric energy produced by the facility will be sold at wholesale or at retail exclusively to foreign consumers.

Comment date: February 15, 2001, in accordance with Standard Paragraph E at the end of this notice. The Commission will limit its consideration of comments to those that concern the adequacy or accuracy of the application.

2. Canal Electric Company

[Docket No. ER00-3766-002]

Take notice that on January 22, 2001, Canal Electric Company (Canal), tendered for filing a corrected copy of the Second Restated Sixth Amendment to the Power Contract between Canal and its retail affiliates Cambridge Electric Light Company and Commonwealth Electric Company (Canal Rate Schedule FERC No. 33, the “Seabrook Power Contract”). This filing corrects Canal's filing made with the Commission in the above-referenced docket on December 18, 2000, whereby it submitted the Restated Sixth Amendment. This corrected filing re-designates the Seabrook Power Contract in accordance with the requirements of the Commission's Order 614. Except for the re-designation of the Seabrook Power Contract, Canal has proposed no other changes to its December 18, 2000 filing. Accordingly, Canal requests withdrawal of its filing made with the Commission on January 16, 2000 in the above-referenced docket.

Comment date: February 12, 2001, in accordance with Standard Paragraph E at the end of this notice.

3. Dynegy Danskammer, L.L.C., Dynegy Roseton, L.L.C.

[Docket Nos. EC01-55-000 and EL01-28-000]

Take notice that on January 10, 2001 Dynegy Danskammer, L.L.C. and Dynegy Roseton, L.L.C. (collectively, Applicants) tendered for filing a request pursuant to section 203 of the Federal Power Act (FPA) that the Commission approve a series of transactions designed to effectuate a sale/leaseback of certain jurisdictional facilities that are associated with the Roseton Generating Station and the Danskammer Generating Station, and that are being acquired by Applicants in a separate transaction. Applicants also request that the Commission find that none of the passive financial participants in the proposed transaction will be a “public utility” as that term is defined in section 201(e) of the FPA.

Comment date: February 9, 2001, in accordance with Standard Paragraph E at the end of this notice.

4. Kentucky Utilities Company

[Docket No. ER00-3266-001]

Take notice that on January 22, 2001, Kentucky Utilities Company (KU), tendered for filing several executed contracts with its wholesale customers in compliance with Order No. 614, FERC Stats. & Regs. ¶31,096 (2000) under which the customers are to receive the benefit of power made available to them from the Southeastern Power Administration (SEPA).

Comment date: February 12, 2001, in accordance with Standard Paragraph E at the end of this notice.

5. New York Independent System Operator, Inc.

[Docket No. ER00-3740-001]

Take notice that on January 22, 2001, the New York Independent System Operator, Inc., (NYISO), tendered for filing a Compliance Filing in the above-captioned proceedings. The NYISO was required to submit this compliance filing pursuant to New York Independent System Operator, Inc., 93 FERC ¶61,186 (2000).

A copy of this filing was served upon all parties in Docket No. ER00-3740-000.

Comment date: February 12, 2001, in accordance with Standard Paragraph E at the end of this notice.

6. Wisconsin Electric Power Company

[Docket No. ER01-218-001]

Take notice that on January 22, 2001, Wisconsin Electric Power Company (WEPCo), tendered for filing revised Service Schedules F, G, H, I, and J under WEPCo's FERC Electric Service Tariff Second Revised Volume No. 2 in compliance with the Commission's order of December 21, 2000.

Comment date: February 12, 2001, in accordance with Standard Paragraph E at the end of this notice.

7. CMS Marketing, Services and Trading Company

[Docket Nos. ER01-570-002 ER01-171-002]

Take notice that on January 19, 2001, CMS Marketing, Services and Trading Company (CMS MST), tendered for filing, an amended Service Agreement for sales to its public utility affiliate, Consumers Energy Company (CECo). Specifically, CMS MST proposes to correct an error regarding CECo's commitment to exclude all purchases from CMS MST from any rate calculations for its wholesale requirements customers and special contracts customers, which appears in the currently effective service agreement.

CMS MST also seeks waiver of any regulations of the Federal Energy Regulatory Commission necessary to permit an effective date of January 1, 2001, and a shortened notice period.

Comment date: February 16, 2001, in accordance with Standard Paragraph E at the end of this notice.

8. Consumers Energy Company

[Docket No. ER01-766-001]

Take notice that on January 22, 2001 Consumers Energy Company (Consumers), tendered for filing a substitute Service Agreement between Consumers and Virginia Electric And Power Company (Virginia Electric), which agreement had originally been filed with one page inadvertently omitted.

Consumers requested that the substitute Service Agreement be allowed to become effective January 1, 2001.

Copies of the filing were served upon Virginia Electric and the Michigan Public Service Commission.

Comment date: February 12, 2001, in accordance with Standard Paragraph E at the end of this notice.

9. Pacific Gas and Electric Company

[Docket No. ER01-833-000]

Take notice that on January 22, 2001, Pacific Gas and Electric Company (PG&E), tendered for filing a Request for Deferral of Consideration of the unexecuted Wholesale Distribution Tariff Service Agreement and Interconnection Agreement between Pacific Gas and Electric Company and Modesto Irrigation District (MID) filed in FERC Docket No. ER01-833-000 on December 29, 2000. PG&E and Modesto are still discussing the final terms of these Agreements and PG&E therefore is notifying the Commission that the executed WDT and IA will not be filed by January 22, 2001. PG&E requests that the Commission defer consideration of the WDT Service Agreement and IA filed in ER00-833-000 for 45 days beyond the normal period for consideration of such filings in order that the parties may finalize the Agreements.

Copies of this filing have been served upon MID, the California Independent System Operator Corporation, and the California Public Utilities Commission.

Comment date: February 12, 2001, in accordance with Standard Paragraph E at the end of this notice.

10. MidAmerican Energy Company

[Docket No. ER01-1015-000]

Take notice that on January 22, 2001, MidAmerican Energy Company (MidAmerican), 666 Grand Avenue, Des Moines, Iowa 50309, filed with the Commission a Network Integration Transmission Service Agreement and Network Operating Agreement with the City of Wall Lake, Iowa. Each Agreement is dated December 29, 2000 and has been entered into pursuant to MidAmerican's Open Access Transmission Tariff.

MidAmerican requests an effective date of January 1, 2001 for each Agreement and seeks a waiver of the Commission's notice requirement.

MidAmerican has served a copy of the filing on the Iowa Utilities Board and the City of Wall Lake, Iowa.

Comment date: February 12, 2001, in accordance with Standard Paragraph E at the end of this notice.

11. Southwest Power Pool, Inc.

[Docket No. ER01-1016-000]

Take notice that on January 22, 2001, Southwest Power Pool, Inc. (SPP), tendered for filing an executed service agreement for Firm Point-to-Point Transmission Service with the Oklahoma Municipal Power Authority (OMPA).

A copy of this filing was served on OMPA.

Comment date: February 12, 2001, in accordance with Standard Paragraph E at the end of this notice.

12. Virginia Electric and Power Company

[Docket No. ER01-247-002]

Take notice that Virginia Electric and Power Company (Virginia Power), on January 22, 2001, tendered for filing revised tariff sheets from its FERC Electric Tariff, Second Revised Volume No. 5 Tariff (Tariff) in compliance with the Commission's orders issued December 22, 2000 and January 18, 2001. See Virginia Electric and Power Company, 93 FERC ¶61,307 (2000), order granting clarification, 94 FERC ¶61,045 (2001).

Copies of the filing were served upon the Virginia State Corporation Commission, the North Carolina Utilities Commission, and the parties listed in the Commission's official service list in the above-captioned proceedings. Virginia Power requested that the Commission waive its requirement to serve all parties taking service under Virginia Power's Tariff. Virginia Power will post the filing on the web at: http://www.dom.com/ operations/elec-transmission/gi-main.html. A copy of Virginia Power's Tariff, including the revised interconnection procedures, will be posted on the Virginia Power's OASIS.

Comment date: February 12, 2001, in accordance with Standard Paragraph E at the end of this notice.

13. MidAmerican Energy Company

[Docket No. ER01-1018-000]

Take notice that on January 22, 2001, MidAmerican Energy Company (MidAmerican), 666 Grand Avenue, Des Moines, Iowa 50309, tendered for filing with the Commission a Network Integration Transmission Service Agreement and Network Operating Agreement with the City of Breda, Iowa. Each Agreement is dated December 29, 2000 and has been entered into pursuant to MidAmerican's Open Access Transmission Tariff.

MidAmerican requests an effective date of January 1, 2001 for each Agreement and seeks a waiver of the Commission's notice requirement.

MidAmerican has served a copy of the filing on the Iowa Utilities Board and the City of Breda, Iowa.

Comment date: February 12, 2001, in accordance with Standard Paragraph E at the end of this notice.

14. MidAmerican Energy Company

[Docket No. ER01-1019-000]

Take notice that on January 22, 2001, MidAmerican Energy Company (MidAmerican), 666 Grand Avenue, Des Moines, Iowa 50309, tendered for filing with the Commission a Network Integration Transmission Service Agreement and Network Operating Agreement with the City of Lake View, Iowa. Each Agreement is dated December 29, 2000 and has been entered into pursuant to MidAmerican's Open Access Transmission Tariff.

MidAmerican requests an effective date of January 1, 2001 for each Agreement and seeks a waiver of the Commission's notice requirement.

MidAmerican has served a copy of the filing on the Iowa Utilities Board and the City of Lake View, Iowa.

Comment date: February 12, 2001, in accordance with Standard Paragraph E at the end of this notice.

15. Southwest Power Pool, Inc.

[Docket No. ER01-1022-000]

Take notice that on January 22, 2001, Southwest Power Pool, Inc. (SPP), tendered for filing two executed service agreements for Firm Point-to-Point Transmission Service with the Public Service Company of Colorado (Transmission Customer).

SPP seeks effective dates of January 1, 2001 and February 1, 2001 for these agreements.

A copy of this filing was served on the Transmission Customer.

Comment date: February 12, 2001, in accordance with Standard Paragraph E at the end of this notice.

16. MidAmerican Energy Company

[Docket No. ER01-1017-000]

Take notice that on January 22, 2001, MidAmerican Energy Company (MidAmerican), 666 Grand Avenue, Des Moines, Iowa 50309, tendered for filing with the Commission a Network Integration Transmission Service Agreement and Network Operating Agreement with the City of Fonda, Iowa. Each Agreement is dated December 29, 2000 and has been entered into pursuant to MidAmerican's Open Access Transmission Tariff.

MidAmerican requests an effective date of January 1, 2001 for each Agreement and seeks a waiver of the Commission's notice requirement.

MidAmerican has served a copy of the filing on the Iowa Utilities Board and the City of Fonda, Iowa.

Comment date: January 25, 2001, in accordance with Standard Paragraph E at the end of this notice.

17. Louisville Gas and Electric Company/Kentucky Utilities Company

[Docket No. ER01-1023-000]

Take notice that on January 22, 2001, Louisville Gas and Electric Company (LG&E)/Kentucky Utilities (KU) (hereinafter Companies), tendered for filing an executed transmission service agreement with The Cincinnati Gas and Electric Company, PSI Energy, Inc. (collectively Cinergy Operating Companies) and Cinergy Services, Inc., as agent for and on behalf of the Cinergy Operating Companies. This agreement allows The Cinergy Operating Companies and its agent Cinergy Services, Inc. to take firm point-to-point transmission service from LG&E/KU. The point of receipt is CINERGY and the point of delivery is BREC.

Comment date: February 12, 2001, in accordance with Standard Paragraph E at the end of this notice.

18. Louisville Gas and Electric Company/Kentucky Utilities Company

[Docket No. ER01-1024-000]

Take notice that on January 22, 2001, Louisville Gas and Electric Company (LG&E)/Kentucky Utilities (KU) (hereinafter Companies), tendered for filing an executed transmission service agreement with The Cincinnati Gas and Electric Company, PSI Energy, Inc. (collectively Cinergy Operating Companies) and Cinergy Services, Inc., as agent for and on behalf of the Cinergy Operating Companies. This agreement allows The Cinergy Operating Companies and its agent Cinergy Services, Inc. to take firm point-to-point transmission service from LG&E/KU. The point of receipt is CINERGY and the point of delivery is TVA.

Comment date: February 12, 2001, in accordance with Standard Paragraph E at the end of this notice.

19. Louisville Gas and Electric Company/Kentucky Utilities Company

[Docket No. ER01-1025-000]

Take notice that on January 25, 2001, Louisville Gas and Electric Company (LG&E)/Kentucky Utilities (KU) (hereinafter Companies), tendered for filing executed transmission service agreement with FPL Energy Power Marketing, Inc (FPL). The agreement allows FPL to take firm point-to-point transmission service from LG&E/KU.

Comment date: February 12, 2001, in accordance with Standard Paragraph E at the end of this notice.

20. Louisville Gas and Electric Company/Kentucky Utilities Company

[Docket No. ER01-1026-000]

Take notice that on January 22, 2001, Louisville Gas and Electric Company (LG&E)/Kentucky Utilities (KU) (hereinafter Companies), tendered for filing an executed unilateral Service Sales Agreement between Companies and Florida Power and Light Company under the Companies' Rate Schedule MBSS.

Comment date: February 12, 2001, in accordance with Standard Paragraph E at the end of this notice.

21. Commonwealth Edison Company

[Docket No. ER01-1027-000]

Take notice that on January 22, 2001, Commonwealth Edison Company (ComEd), tendered for filing two Short-Term Firm Transmission Service Agreements with the City of Columbia, MO (City of Columbia) and Engage Energy America, LLC (EEA) and two Non-Firm Transmission Service Agreements with the City of Columbia and EEA under the terms of ComEd's Open Access Transmission Tariff (OATT).

ComEd requests an effective date of January 11, 2001, for the Agreements with the City of Columbia and an effective date of January 11, 2001 for the Agreements with EEA, and accordingly, seeks waiver of the Commission's notice requirements.

Comment date: February 12, 2001, in accordance with Standard Paragraph E at the end of this notice.

22. Commonwealth Edison Company

[Docket No. ER01-1028-000]

Take notice that on January 22, 2001, Commonwealth Edison Company (ComEd) tendered for filing a Firm Transmission Service Agreement (Agreement) with Dynegy Power Marketing, Inc. (DYPM), and four Firm Agreements with PECO Energy Company (PECOPT) under the terms of ComEd's Open Access Transmission Tariff (OATT).

ComEd requests an effective date of January 1, 2001 for the Agreement with DYPM and an effective date of January 1, 2001 for the Agreements with PECOPT, and accordingly, seeks waiver of the Commission's notice requirements.

Comment date: February 12, 2001, in accordance with Standard Paragraph E at the end of this notice.

23. American Transmission Company LLC

[Docket No. ER01-1029-000]

Take notice that on January 22, 2001, American Transmission Company LLC (ATCLLC), tendered for filing a Network Operating Agreement and Network Integration Transmission Service Agreement between ATCLLC and Adams-Columbia Electric Cooperative.

ATCLLC requests an effective date of January 1, 2001.

Comment date: February 12, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 01-2768 Filed 1-31-01; 8:45 am]

BILLING CODE 6717-01-P